DEPARTMENT OF TRANSPORTATION

Surface Transportation Board

[STB Finance Docket No. 35127]

CSX Transportation, Inc.—Trackage Rights Exemption—Central Railroad of Indianapolis D/B/A Chicago, Fort Wayne and Eastern

Pursuant to a written trackage rights agreement, Central Railroad of Indianapolis d/b/a Chicago, Fort Wayne and Eastern (CFE) has agreed to grant limited non-exclusive overhead trackage rights to CSX Transportation, Inc. (CSXT) over a CFE line of railroad between milepost QF 191.28, at the west end of CSXT's Crestline Yard, at Crestline, OH, and milepost QFS 62.85 at Spore, OH,¹ via CFE's Ft. Wayne Line Subdivision, a distance of approximately 15.16 miles.²

¹ CSXT's and CFE's trackage connects at the west end of CSXT's Crestline Yard. CSXT will operate along the Ft. Wayne Subdivision until it reaches milepost 200.05 near Bucyrus, OH. At that point, CSXT will enter the Spore Industrial Track, which begins at milepost QFS 69.24. CSXT will traverse the Spore Industrial Track to the end at Spore, milepost QFS 62.85, where the privately owned track of National Lime and Stone (NLS) begins. Loaded trains from NLS will be operated in the reverse move.

² A redacted draft version of the trackage rights agreement between CFE and CSXT was filed with the notice of exemption. The full draft version was concurrently filed under seal along with a motion for protective order, which will be addressed in a separate decision.

The transaction may be consummated on or after May 31, 2008, the effective date of the exemption (30 days after the exemption was filed).³

³ CSXT incorrectly states that the effective date of this exemption is May 30, 2008.

Under the trackage rights agreement, CSXT's trains will move to and from the end points of the line in the interests of economy and efficiency, in connection with a transition in CSXT's operations, which transition will be implemented to improve traffic flow by avoiding time consuming and unnecessary interchange of loaded/empty unit trains between CFE, CSXT, and their respective crews. The trackage rights are limited to: (1) The months between and including April through November of each calendar year, and (2) a maximum of three loaded unit trains of crushed limestone and three empty unit trains per week, with a maximum of 60 cars per unit train. CSXT will not provide local service over the line.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by May 23, 2008 (at least 7 days before the exemption becomes effective).

Pursuant to the Consolidated Appropriations Act, 2008, Public Law No. 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

An original and 10 copies of all pleadings, referring to STB Finance Docket No. 35127, must be filed with the Surface Transportation Board, 395 E Street, SW., Washington, DC 20423-0001. In addition, a copy of each pleading must be served on Steven C. Armbrust and John N. Booth, III, 500 Water Street, Suites J-150 and J-315, Jacksonville, FL 32202.

Board decisions and notices are available on our Web site at http://www.stb.dot.gov.

Decided: May 9, 2008.
By the Board, David M. Konschnik, Director, Office of Proceedings.
Anne K. Quinlan,
Acting Secretary.

[FR Doc. E8-10874 Filed 5-15-08; 8:45 am]

BILLING CODE 4915-01-P